DEPARTMENT OF DEFENSE

Department of the Navy

Notice of the Record of Decision (ROD) for the Final Environmental Impact Statement (FEIS) for the Disposal and Reuse of Naval Air Station, Joint Reserve Base (NASJRB) Willow Grove, Pennsylvania

AGENCY: Department of the Navy, DoD.

ACTION: Notice.

SUMMARY: Pursuant to Section 102(2)(C) of the National Environmental Policy Act (NEPA) of 1969, as implemented by the Council on Environmental Quality Regulations (40 CFR parts 1500-1508), the Department of the Navy (DoN) has prepared the ROD for the FEIS for the disposal and reuse of NASJRB Willow Grove Pennsylvania. The DoN is required to close NASJRB Willow Grove per Public Law 101-510, the Defense Base Closure and Realignment Act of 1990, as amended in 2005. The ROD was prepared by the DoN.

FOR FURTHER INFORMATION CONTACT: Director, Base Realignment and Closure (BRAC) Program Management Office East, 4911 Broad Street, Building 679, Philadelphia, PA 19112-1303, telephone 215-897-4900, fax 215-897-4902, email: Gregory.preston@navy.mil

SUPPLEMENTARY INFORMATION: The complete text of the ROD is available on the Navy BRAC Program Management Office Web site at http://www.bracpmo.navy.mil/ along with the FEIS and other supporting documents. Single copies of the ROD are available upon request by contacting Director, BRAC Program Management Office East, 4911 Broad Street, Building 679, Philadelphia, PA 19112-1303, telephone 215-897-4900, fax 215-897-4902, email: Gregory.preston@navy.mil

Dated: June 4, 2015.
N.A. Hagerty-Ford,
Federal Register Liaison Officer, Commander, Judge Advocate General's Corps, U.S. Navy.

[FR Doc. 2015-14172 Filed 6-9-15; 8:45 am]

BILLING CODE 3810-FF-P